DEPARTMENT OF COMMERCE

National Oceanic and Atmospheric Administration

50 CFR Parts 600 and 660

[Docket No. 991223347-9347; I.D. 102600C]

Fisheries off West Coast States and in the Western Pacific; Pacific Coast Groundfish Fishery; Recreational Fishery Closure

AGENCY: National Marine Fisheries Service (NMFS), National Oceanic and Atmospheric Administration (NOAA), Commerce.

ACTION: Fishery closure; request for comments.

SUMMARY: NMFS announces changes to the recreational fishery for lingcod, within the Pacific Coast groundfish fishery. This action, which is authorized by the Pacific Coast Groundfish Fishery Management Plan (FMP), is intended to protect lingcod.

DATES: Changes to management measures are effective 0001 hours (local time) November 2, 2000, unless modified, superseded, or rescinded. These changes are effective until the effective date of the 2001 annual specifications and management measures for the Pacific coast groundfish fishery, which will be published in the Federal Register. Comments on this rule will be accepted through November 22, 2000.

ADDRESSES: Submit comments to Donna Darm, Acting Administrator, Northwest Region (Regional Administrator), NMFS, 7600 Sand Point Way N.E., BIN C15700, Bldg. 1, Seattle, WA 98115-0070; or Rebecca Lent, Administrator, Southwest Region, NMFS, 501 West Ocean Blvd., Suite 4200, Long Beach, CA 90802-4213.

FOR FURTHER INFORMATION CONTACT: Yvonne deReynier or Becky Renko (Northwest Region, NMFS) 206-526-6140.

SUPPLEMENTARY INFORMATION: The following change to current lingcod management measures for waters off California was recommended by the Pacific Fishery Management Council (Council,) in consultation with the State of California, at its September 11-15, 2000, meeting in Sacramento, CA, and by the California Fish and Game Commission (Commission) at its October 19-20, 2000, meeting in San Diego, CA.

On October 6, 2000, NMFS published a document in the Federal Register announcing inseason changes to trip limits for Pacific coast groundfish (65 FR 59752). The preamble to that document discussed the possibility of further inseason actions to close certain fisheries off California, pending decisions made in the Commission’s October meeting.

At its October 19-20, 2000, meeting, the Commission discussed whether fishery closures were necessary for the months of November and December to protect overfished and depleted species (bocaccio, lingcod, canary rockfish, cowcod). The best available information used by the Commission indicated that the coastwide lingcod optimum yield (OY) would be exceeded by October 31, 2000. Since the weather in central and southern California often remains conducive to recreational fishing throughout the year, the Commission decided to close the recreational lingcod fishery within State waters (0-3 nm offshore) for November and December in order to prevent further landings of lingcod. The Commission also asked NMFS to set complementary regulations for Federal waters (3-200 nm offshore).

At its September 2000 meeting, the Council had asked NMFS to coordinate with the State of California to implement Federal management measures consistent with those of the State. Consistent with the Council’s request and to ensure that the lingcod fishery conforms with the lingcod overfished species rebuilding plan, this action implements the Commission’s recommendations on a lingcod fishery closure within Federal waters off California. Previously, the Council had asked NMFS to close the recreational fishery for lingcod off Washington State. Therefore, all commercial fisheries for lingcod are closed in November and December. Oregon’s recreational fishery for lingcod remains open, but landings are expected to be minimal due to rough winter weather constraining fishing opportunities.

NMFS Actions

For the reasons stated here, NMFS concurs with the Council’s recommendations and announces the following changes to the 2000 annual management measures (65 FR 221, January 4, 2000, as amended at 65 FR 4169, January 26, 2000; 65 FR 17805, April 5, 2000; 65 FR 25881, May 4, 2000; 65 FR 31283, May 17, 2000; 65 FR 33423, May 23, 2000; and 65 FR 45308, July 21, 2000) as follows:

In Section IV, under D. Recreational Fishery, paragraph (1) (b) is revised to read as follows:

IV. NMFS Actions

D. Recreational Fishery

* * * * *

(1) * * *

(b) lingcod. Recreational fishing for lingcod off the coast of California is closed from [insert date of filing for public inspection with the Office of the Federal Register] through December 31, 2000.

* * * * *

Classification

These actions are authorized by the regulations implementing the FMP and the annual specifications and management measures and emergency rule published at 65 FR 221 (January 4, 2000) and are based on the most recent data available. The aggregate data upon which these actions are based are available for public inspection at the office of the Administrator, Northwest Region, NMFS (see ADDRESSES) during business hours.

The Assistant Administrator for Fisheries (AA), NOAA, finds good cause to waive the requirement to provide prior notice and comment on this action pursuant to 5 U.S.C. 553(b)(B), because providing prior notice and opportunity for comment would be impracticable. It would be impracticable because this action is necessary to protect an overfished species that is managed under a rebuilding plan, and affording additional advance notice would reduce the agency’s ability to protect that overfished species. In addition, the affected public had the opportunity to comment on these actions at the September 11-15, 2000, Council meeting and at the October 19-20, 2000, Commission meeting. Accordingly, the AA finds good cause exists to waive the 30-day delay in effectiveness.

These actions are taken under the authority of 50 CFR 660.323(b)(1), and are exempt from review under Executive Order 12866.

Authority: 16 U.S.C. 1801 et seq.

Dated: November 1, 2000.
Bruce C. Morehead,
Acting Director, Office of Sustainable Fisheries, National Marine Fisheries Service.

[FR Doc. 00-28534 Filed 11-2-00; 8:45 am]

BILLING CODE 3510-22-S